DEPARTMENT OF VETERANS AFFAIRS

Veterans' Advisory Committee on Rehabilitation; Notice of Meeting

The Department of Veterans Affairs (VA) gives notice under Public Law 92-463 (Federal Advisory Committee Act) that a meeting of the Veterans' Advisory Committee on Rehabilitation will be held on November 27-28, 2007 in Room 819 at the Department of Veterans Affairs, 811 Vermont Avenue, NW., Washington, DC. The sessions will begin at 8 a.m. and will end at 4:30 p.m. each day. The meeting is open to the public.

The purpose of the Committee is to provide recommendations to the Secretary of Veterans Affairs on the rehabilitation needs of veterans with disabilities and on the administration of VA's rehabilitation programs.

During the meeting, there will be briefings on various VA rehabilitation-related initiatives. The Committee will discuss VA's polytrauma centers and how their programs address rehabilitation needs of veterans with disabilities.

No time will be allocated at this meeting for oral presentations from the public. Any member of the public wishing to attend the meeting is requested to contact Mr. Joseph Tucker, Designated Federal Officer, at (202) 461-9637. The Committee will accept written comments. Comments should be addressed to Mr. Tucker at the Department of Veterans Affairs, Veterans Benefits Administration (28), 810 Vermont Avenue, NW., Washington, DC 20420. In communication with the Committee, writers must identify themselves and state the organizations, associations, or person(s) they represent.

By Direction of the Secretary.
Dated: October 31, 2007.
E. Philip Riggin,
Committee Management Officer.

[FR Doc. 07-5540 Filed 11-6-07; 8:45 am]

BILLING CODE 8320-01-M